Proclamation 9788 of September 14, 2018

Constitution Day, Citizenship Day, and Constitution Week, 2018

By the President of the United States of America

A Proclamation

On this day and during this week, we celebrate the signing of our Constitution, which has proved that Government established by the people through reflection and deliberate choice can thrive and endure, rather than devolve into chaos and upheaval. Our Nation began with the “honorable determination,” as James Madison put it, “to rest all our political experiments on the capacity of mankind for self-government.” We recognize the Constitution's role in securing for our country the blessings of liberty; we salute the service members, statesmen, and citizens who have defended it; and we commit ourselves to the active citizenship that self-government requires.

The Framers established a strong Federal Government able to provide the energy and stability its people require while simultaneously limiting its reach and reserving all powers not expressly assigned to the Federal Government to the States and the people. When the Federal Government acts, it must do so with accountability. We are a Nation of laws, and laws must be enacted by the people's elected representatives. The Constitution ensures that the Government acts only with the consent of the governed, as expressed by the representatives responsible to them. That vital safeguard is lost when obscure and unaccountable regulators impose unforeseen mandates on the American people or twist the plain meaning of statutes to regulate without authority from the Congress. Our constitutional system will be “of little avail to the people,” Madison said, when the law “is little known, and less fixed.”

In my Inaugural Address, I promised to return power to the American people. As President, I have instructed my Cabinet and all agency officials to regulate only when, and how, authorized by duly enacted statute. I have also instructed agencies to eliminate regulations that are ineffective, that fail to address real-world problems, that are needlessly burdensome, and that prevent Americans from designing their own innovative solutions. I call on Federal agencies to make room for States and local communities, for religious and civic organizations, and for individual Americans to address problems with the ingenuity and determination that make our country great.

On this day and during this week, I once again call on all citizens to reflect on the original public meaning of our Constitution. And I call on Government officials to be mindful that laws must be clear and intelligible, and enacted through an open, constitutional process so that the American people can hold their Government accountable.

The Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, DONALD J. TRUMP, President of the United States of America, by virtue of the authority vested in me by the Constitution and the laws of the United States, do hereby proclaim September 17, 2018, as Constitution Day and Citizenship Day, and September 17, 2018, through September 23, 2018, as Constitution Week. On this day and during this week, we celebrate the citizens and the Constitution that have made America the greatest Nation this world has ever known. In doing so, we recommit ourselves to the enduring principles of the Constitution and thereby “secure the Blessings of Liberty to ourselves and our Posterity.”

IN WITNESS WHEREOF, I have hereunto set my hand this fourteenth day of September, in the year of our Lord two thousand eighteen, and of the Independence of the United States of America the two hundred and forty-third.

[FR Doc. 2018-20570

Filed 9-18-18; 11:15 am]

Billing code 3295-F8-P